FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 22, 2001.

A. Federal Reserve Bank of Atlanta (Cynthia C. Goodwin, Vice President) 104 Marietta Street, N.W., Atlanta, Georgia 30303-2713:

1. Eunice Barker, Dunlap, Tennessee; Flavius Barker, Naomi Barker, both of Columbia, Tennessee; Glenn Barker and Patsy Barker, both of Dunlap, Tennessee; Greg Barker, Dunlap, Tennessee; Glenda Mabry, and Carl D. Mabry, both of Lenoir City, Tennessee; Allen Barker, Dunlap, Tennessee; Ann Hale, and Harmon L. Hale, both of Dunlap, Tennessee; John Barker, Dunlap, Tennessee; Charles Barker, Dunlap, Tennessee; and Sara Hampton, Terry, Mississippi; all to retain voting shares of Sequatchie Valley Bancshares, Inc., Dunlap, Tennessee, and thereby indirectly retain voting shares of Citizens Tri-County Bank, Dunlap, Tennessee.

Board of Governors of the Federal Reserve System, March 2, 2001.
Robert deV. Frierson
Associate Secretary of the Board.

[FR Doc. 01-5606 Filed 3-7-01; 8:45 am]

BILLING CODE 6210-01-S